DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Payment of Patent and Trademark Office Fees by Credit Card.

Form Number(s): PTO-2038.

Agency Approval Number: 0651-0043.

Type of Request: Revision of a currently approved collection.

Burden: 29,497 hours annually.

Number of Respondents: 327,308 responses per year.

Avg. Hours Per Response: The USPTO estimates that it will take the public approximately 12 minutes (0.2 hours) to gather the necessary information, prepare, and submit the Credit Card Payment Form or 2 minutes (0.03 hours) to prepare and submit the Electronic Credit Card Payment Form.

Needs and Uses: The USPTO charges fees for processing and other services related to patents, trademarks, and information products, which may be paid by credit card. The Electronic Credit Card Payment Form is being added to this collection and allows the public to submit credit card payments online. The public uses this collection to submit credit card information in order to pay various fees and to indicate the purpose of the payment being submitted. The USPTO uses this information to determine whether the appropriate fee amount has been submitted and to process these credit card payments. The use of separate credit card payment forms is necessary in order to protect the confidentiality of the submitted credit card information and exclude this information from the patent and trademark records that are open to public inspection.

Affected Public: Individuals or households, businesses or other for-profits, not-for-profit institutions, farms, the Federal Government, and state, local, or tribal governments.

Frequency: On occasion for recordkeeping and reporting.

Respondent's Obligation: Required to obtain or retain benefits.

OMB Desk Officer: David Rostker, (202) 395-3897.

Copies of the above information collection proposal can be obtained by calling or writing Susan K. Brown, Records Officer, Office of Data Architecture and Services, Data Administration Division, USPTO, Suite 310, 2231 Crystal Drive, Washington, DC 20231, by phone at (703) 308-7400, or by e-mail at susan.brown@uspto.gov.

Written comments and recommendations for the proposed information collection should be sent on or before February 10, 2003 to David Rostker, OMB Desk Officer, Room 10202, New Executive Office Building, 725 17th Street NW., Washington, DC 20503.

Dated: January 6, 2003.
Susan K. Brown,
Records Officer, USPTO, Office of Data Architecture and Services, Data Administration Division.

[FR Doc. 03-500 Filed 1-9-03; 8:45 am]

BILLING CODE 3510-16-P